ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, January 12-14, 2015 at the times and location listed below.

DATES: The schedule of events is as follows:

Monday, January 12, 2015

10:00-Noon Ad Hoc Committee Meetings: Closed to public

1:30-5:00 p.m. Roundtable Discussion on Hearing Access

Tuesday, January 13, 2015

9:30-11:00 a.m. Frontier Issues Ad Hoc Committee

11:00-Noon Ad Hoc Committees: Closed to public

1:30-2:00 p.m. Budget Committee

2:00-3:00 Planning and Evaluation Committee

3:00-4:00 Technical Programs Committee

Wednesday, January 14, 2015

1:30-3:00 p.m. Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, January 14, 2015, the Access Board will consider the following agenda items:

• Approval of the draft November 19, 2014 meeting minutes (vote)

• Ad Hoc Committee Reports: Design Guidance; Frontier Issues; Information and Communications Technologies; Medical Diagnostic Equipment; Passenger Vessels; Public Rights-of-Way and Shared Use Paths; Self-Service Transaction Machines; and Transportation Vehicles

• Budget Committee

• Technical Programs Committee

• Planning and Evaluation Committee

• Election Assistance Commission Report

• Executive Director's Report

All meetings are accessible to persons with disabilities. An assistive listening system, Communication Access Realtime Translation (CART), and sign language interpreters will be available at the Board meeting and committee meetings. Persons attending Board meetings are requested to refrain from using perfume, cologne, and other fragrances for the comfort of other participants (see www.access-board.gov/the-board/policies/fragrance-free-environment for more information).

David M. Capozzi,
Executive Director.

[FR Doc. 2014-29748 Filed 12-18-14; 8:45 am]

BILLING CODE 8150-01-P